DEPARTMENT OF JUSTICE

Notice of Lodging of Proposed Consent Decree Under the Comprehensive Environmental Response, Compensation, and Liability Act

On April 7, 2023, the Department of Justice lodged a proposed Consent Decree with the United States District Court for the Southern District of California in the lawsuit entitled United States v. County of San Diego, California, Civil Action No. 3:22-cv-01753-JO-NLS.

This case relates to releases or threats of releases of hazardous substances at or from the Ramona Burn Dump Site, in San Diego County, California, in the Palomar Ranger District of the Cleveland National Forest. The case involves claims under the Comprehensive Environmental Response, Compensation, and Liability Act of 1980, as amended (“CERCLA”), for, among others, injunctive relief and recovery of the United States' past and future response costs. The settlement resolves the United States' claims by requiring the County to: (1) undertake a non-time-critical removal action to address site contamination; (2) reimburse the United States' past response costs; and (3) reimburse the United States' future response costs.

The publication of this notice opens a period for public comment on the Consent Decree. Comments should be addressed to the Assistant Attorney General, Environment and Natural Resources Division, and should refer to United States v. County of San Diego, California, DJ# 90-11-3-11691. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $15.75 (63 pages at 25 cents per page reproduction cost) payable to the United States Treasury.

Lori Jonas,
Assistant Section Chief, Environmental Enforcement Section, Environment and Natural Resources Division.

[FR Doc. 2023-07851 Filed 4-13-23; 8:45 am]

BILLING CODE 4410-15-P